DEPARTMENT OF THE INTERIOR

Bureau of Land Management

[AK-910-06-1739-NSSI]

Notice of Public Meeting, North Slope Science Initiative, Science Technical Group

AGENCY: Bureau of Land Management, Alaska State Office, North Slope Science Initiative, Interior.

ACTION: Notice of public meeting.

SUMMARY: In accordance with the Federal Land Policy and Management Act (FLPMA) and the Federal Advisory Committee Act of 1972 (FACA), the U.S. Department of the Interior, North Slope Science Initiative (NSSI) Science Technical Group (STG) will meet as indicated below.

DATES: The meeting will be held June 26-28, 2006, at the Bureau of Land Management, 1150 University Avenue, Fairbanks, Alaska, in the second floor Arctic/Steese Conference Room. On June 26 the meeting will begin at 10 a.m.; on June 27 and 28, the meeting will begin at 8:30 a.m. at the same location. The public comment period will be from 3 p.m. to 5 p.m. June 26.

FOR FURTHER INFORMATION CONTACT: Ken Taylor, Executive Director, North Slope Science Initiative, Bureau of Land Management, 222 West Seventh Avenue, #13, Anchorage, Alaska 99513; phone (907) 271-3131 or e-mail kenton_taylor@ak.blm.gov.

SUPPLEMENTARY INFORMATION: The North Slope Science Initiative, Science Technical Group provides advice and recommendations to the North Slope Science Oversight Group (OG) regarding priority needs for management decisions across the North Slope of Alaska. These priority needs may include recommendations on inventory, monitoring, and research activities that lead to informed land management decisions. This will be an organizational meeting, and topics will include: roles and responsibilities of the STG, expectations of the OG for the STG, and other topics the OG or STG may raise.

All meetings are open to the public. The public may present written comments to the STG. Each formal meeting will also have time allotted for hearing public comments. Depending on the number of persons wishing to comment and time available, the time for individual oral comments may be limited. Individuals who plan to attend and need special assistance, such as sign language interpretation, transportation, or other reasonable accommodations, should contact the North Slope Science Initiative staff.

Dated: May 11, 2006.
John Sroufe,
Acting Alaska State Director.

[FR Doc. E6-7592 Filed 5-17-06; 8:45 am]

BILLING CODE 4310-AG-P